NUCLEAR REGULATORY COMMISSION

[Docket No. 030-03258]

Notice of Availability of Environmental Assessment and Finding of No Significant Impact for License Amendment for Brooke Army Medical Center, Sam Houston, TX

AGENCY: Nuclear Regulatory Commission.

ACTION: Notice of availability.

FOR FURTHER INFORMATION CONTACT: Rachel S. Browder, M.S., Health Physicist, Nuclear Materials Licensing Branch, Division of Nuclear Materials Safety, U.S. Nuclear Regulatory Commission, Region IV, Arlington Texas 76011. Telephone: (817) 276-6552; fax number: (817) 860-8263; e-mail: rsb3@nrc.gov.

SUPPLEMENTARY INFORMATION:

I. Introduction

The Nuclear Regulatory Commission (NRC) is issuing a license amendment to Byproduct Materials License No. 42-01368-01 issued to Department of the Army, Brooke Army Medical Center, to authorize release of its Building 2630, “Department of Pathology and Laboratory Services,” except for rooms 120 and 156, for unrestricted use. Building 2630 is located at 2473 Schofield Road, Fort Sam Houston, Texas, and is surrounded by veterinary facilities and recreational/dinner amenities. The NRC has prepared an Environmental Assessment (EA) in support of this amendment in accordance with the requirements of 10 CFR part 51. Based on the EA, the NRC has concluded that a Finding of No Significant Impact (FONSI) is appropriate. The amendment will be issued following the publication of this Notice.

II. EA Summary

The purpose of the proposed amendment is to allow for the release of Building 2630, “Department of Pathology and Laboratory Services,” except for rooms 120 and 156, located on the Brooke Army Medical Center campus in Fort Sam Houston, Texas, for unrestricted use. Brooke Army Medical Center is authorized by the NRC in License Number 42-01368-01 to use radioactive materials for medical research, diagnosis, therapy, in vitro studies, in addition to studies in laboratory animals. Brooke Army Medical Center obtained Building 2630 in 1968. The building originally housed the chemistry section of the Army Medical Lab. In 1975, the Army Medical Lab was consolidated with the Department of Pathology to form the Department of Pathology and Area Laboratory Services. This consolidation also consisted of Army Medical Lab's NRC license being combined with Brooke Army Medical Center's NRC License. Currently, Building 2630 is partially occupied and controlled by the Veterinary Clinic staff. On February 10, 2004, Brooke Army Medical Center requested that NRC release the facility for unrestricted use, except for rooms 120 and 156. Brooke Army Medical Center has conducted surveys of the building and submitted the Final Status Survey Report to the NRC to demonstrate that the building meets the license termination criteria in subpart E of 10 CFR part 20 for unrestricted use. There is no radiological contamination above the U.S. Army criteria for release or distinguishable from background as reflected by the survey results. No radiological remediation activities are required to complete the proposed action.

The staff has prepared an EA in support of the proposed license amendment to the NRC Byproduct Materials License No. 42-01368-01 issued to Department of the Army, Brooke Army Medical Center, to release Building 2630, except for rooms 120 and 156, for unrestricted use. The NRC is fulfilling its responsibilities under the Atomic Energy Act to make a decision on the proposed action for decommissioning which ensures residual radioactivity is reduced to a level that is protective of the pubic health and safety and the environment, and allows Brooke Army Medical Center to release Building 2630, except for rooms 120 and 156, for unrestricted use. The NRC staff has reviewed the information and final status surveys submitted by Brooke Army Medical Center. Based on its review, the staff determined there were no radiological or non-radiological remediation activities required to complete the proposed action. Additionally, there are no outdoor areas affected by the use of licensed materials. The staff has therefore concluded that the release of Brooke Army Medical Center's Building 2630, except for rooms 120 and 156, for unrestricted use is acceptable. The only alternative to the proposed action of releasing the facility for unrestricted use is no action. The no-action alternative is not acceptable because it is inconsistent with the NRC's Timeliness Rule (10 CFR 30.36), which requires licensees to decommission their facilities when licensed activities cease in any separate building or outdoor area, and subsequently request release of the respective building or outdoor area. Denial of the license amendment request would result in no change to current conditions at the facility.

III. Finding of No Significant Impact

The staff has prepared an EA in support of the proposed license amendment to release Building 2630, except for rooms 120 and 156 for unrestricted use. The staff has found that the environmental impacts from the proposed amendment are bounded by the impacts evaluated by NUREG-1496, Volumes 1-3, “Generic Environmental Impact Statement in Support of Rulemaking on Radiological Criteria for License Termination of NRC-Licensed Facilities” (ML042310492, ML042320379, and ML042330385). The staff has also found that the non-radiological impacts are not significant. On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you may access the NRC’s Agencywide Document Access and Management System (ADAMS), which provides text and image files of NRC's public documents. The ADAMS accession numbers for the documents related to this notice are: Licensee's Amendment Request (ML040570755), NRC's Request for Additional Information (ML040960238), Licensee's Response to Request (ML041600167), and Environmental Assessment (ML042670059). If you do not have access to ADAMS or if there are problems in accessing the documents located in ADAMS, contact the NRC Public Document Room (PDR) Reference staff at 1-800-397-4209, 301-415-4737 or by e-mail to pdr@nrc.gov.

These documents may also be viewed electronically on the public computers located at the NRC's Public Document Room (PDR), O 1 F21, One White Flint North, 11555 Rockville Pike, Rockville, MD 20852. The PDR reproduction contractor will copy documents for a fee.

Dated at Arlington, Texas this 4th day of October, 2004.
For the Nuclear Regulatory Commission.
Jack E. Whitten,
Chief, Nuclear Materials Licensing Branch, Division of Nuclear Materials Safety, Region 4.

[FR Doc. 04-22787 Filed 10-8-04; 9:45 am]

BILLING CODE 7590-01-P